NATIONAL SCIENCE FOUNDATION

Notice of Intent To Seek Approval To Establish an Information Collection

AGENCY: National Science Foundation.

ACTION: Notice and request for comments.

SUMMARY: The National Science Foundation (NSF) is announcing plans to request approval of this collection. In accordance with the requirement of Section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of this collection of information requirements by June 10, 2013.

ADDRESSES: Written comments regarding the information collection and requests for copies of the proposed information collection request should be addressed to Suzanne Plimpton, Reports Clearance Officer, National Science Foundation, 4201 Wilson Blvd., Rm. 295, Arlington, VA 22230, or by email to splimpto@nsf.gov.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title: Microbusiness, Innovation, Science & Technology Survey.

OMB Approval Number: 3145-New.

Expiration Date: Not applicable.

Overview of This Information Collection

The National Center for Science and Engineering Statistics (NCSES) of the National Science Foundation (NSF) plans to conduct a pilot of the new Microbusiness Innovation Science & Technology (MIST) Survey. MIST will collect R&D and other innovation-related data from small, independent U.S. microbusinesses with fewer than five employees. In addition to general information—primary business activity, year business was formed, and number of employees—this survey will collect the following:

• Business data on R&D activity and funding,

• Number of employees and R&D employees,

• Sales of goods and services,

• Operating agreements and licensing activities with universities, other businesses, and government agencies (federal, state, and local),

• Experience with several forms of technology transfer,

• Use and importance of patents and other forms of intellectual property,

• Sources of technical knowledge, and

• Demographic and entrepreneurial characteristics of the business owner.

Consult With Other Agencies & the Public

NSF has consulted with other agencies and has not found another project similar in scope. A request for public comments will be solicited through announcement of data collection in the Federal Register.

Background

NCSES is broadly tasked with measuring the role of science and technology (S&T) in the United States' economy and abroad. A major component of this activity is its sponsorship of the Business Research and Development (R&D) Innovation Survey (BRDIS), which collects information annually on research and development and related activities performed within the United States by industrial firms. In 2004 the National Academy of Sciences' Committee on National Statistics (CNSTAT) reviewed NSF's portfolio of R&D surveys and recommended that NSF explore ways to measure firm innovation and investigate the incidence of R&D activities in growing sectors, such as small business enterprises, not currently covered by BRDIS. BRDIS collects information annually on research and development and related activities performed within the United States by industrial firms. However, businesses with fewer than five employees are excluded from this survey. MIST will fill that void.

Respondents: Establishments (Typically owners or senior level managers of microbusinesses).

Number of Principal Investigator Respondents: 1,600.

Burden on the Public: 400 total hours.

Dated: April 4, 2013.
Suzanne H. Plimpton,
Reports Clearance Officer, National Science Foundation.

[FR Doc. 2013-08177 Filed 4-8-13; 8:45 am]

BILLING CODE 7555-01-P